COMMISSION ON CIVIL RIGHTS

Sunshine Act Meetings

AGENCY: United States Commission on Civil Rights.

ACTION: Notice.

DATE AND TIME: Friday, June 14, 2013; 9:30 a.m. e.s.t.

PLACE: 1331 Pennsylvania Ave. NW., Suite 1150, Washington, DC 20425.

Meeting Agenda

I. Approval of Agenda

II. Program Planning

• Discussion and Vote on Ranking of Concept Paper Topics for the 2014 Statutory Enforcement Report

IV. Management and Operations

• Consideration of Changes to Business Meeting Calendar for August 2013

• Consideration of Commission Letter supporting Equal Opportunity in the U.S. Armed Forces for Sikh Americans

• Status Update on Agency Reorganization

• Staff Director's report

• Chief of Regional Programs report

V. Approval of State Advisory Committee Appointment Slates

• Kentucky

• New York

VI. Adjourn Meeting

CONTACT PERSON FOR FURTHER INFORMATION: Lenore Ostrowsky, Acting Chief, Public Affairs Unit (202) 376-8591.

Hearing-impaired persons who will attend the meeting and require the services of a sign language interpreter should contact Pamela Dunston at (202) 376-8105 or at signlanguage@usccr.gov at least seven business days before the scheduled date of the meeting.

Dated: June 3, 2013.
TinaLouise Martin,
Director of Management/Human Resources.

[FR Doc. 2013-13500 Filed 6-4-13; 11:15 am]

BILLING CODE 6335-01-P